DEPARTMENT OF ENERGY

Office of Energy Efficiency and Renewable Energy

[Docket No. EERE-2015-BT-BC-0002]

DOE Proposals for the 2018 International Energy Conservation Code (IECC)

AGENCY: Office of Energy Efficiency and Renewable Energy, Department of Energy.

ACTION: Notice of availability and public meeting.

SUMMARY: The U.S. Department of Energy (DOE or Department) participates in the public process to develop the International Energy Conservation Code (IECC), as administered by the International Code Council (ICC), and is currently developing proposals for the upcoming 2018 IECC. The Department recently published its draft proposals, which are made available through the DOE Building Energy Codes Program. In addition, DOE invites stakeholders to attend an upcoming meeting to encourage communication amongst stakeholders in preparation for the 2018 IECC development cycle.

DATES: DOE will also host a stakeholder meeting for interested parties to present their proposals for the 2018 IECC and to encourage communication amongst stakeholders. The meeting will be held on October 13th & 14th, 2015.

Interested parties wishing to provide feedback on DOE draft proposals for the 2018 IECC must submit comments by October 19, 2015. For more information on how to submit comments, please see the ADDRESSES and SUPPLEMENTARY INFORMATION sections of this notice.

ADDRESSES: The meeting will be held at the Crowne Plaza Denver Downtown, 1450 Glenarm Place, Denver, Colorado 80202.

Advanced registration is required for the public meeting. For more information on registering, please see the SUPPLEMENTARY INFORMATION section of this notice.

The Department's proposals for the 2018 IECC are available at the DOE Building Energy Codes Program Web site: https://www.energycodes.gov/development/2018IECC. Interested parties are invited to submit comments on DOE proposals. Any comments submitted must reference the Notice for DOE Proposals for the 2018 International Energy Conservation Code (IECC), docket number EERE-2015-BT-BC-0002. Comments may be submitted by using either of the following methods:

1. Federal eRulemaking Portal: http://www.regulations.gov/#!docketDetail;D=EERE-2015-BT-BC-0002. Follow the instructions for submitting comments.

2. Email: IECC2015BC0002@ee.doe.gov. Include EERE-2015-BT-BC-0002 in the subject line of the message.

Instructions: All submissions received must include the agency name (U.S. DOE), docket number (EERE-2015-BT-BC-0002), and applicable DOE proposal ID numbers.

FOR FURTHER INFORMATION CONTACT: Jeremiah Williams; U.S. Department of Energy, Office of Energy Efficiency and Renewable Energy, Building Technologies Office, EE-5B, 1000 Independence Avenue SW., Washington, DC 20585; Telephone: (202) 287-1941; Email: jeremiah.williams@ee.doe.gov.

For legal issues: Kavita Vaidyanathan; U.S. Department of Energy, Office of the General Counsel, Forrestal Building, GC-33, 1000 Independence Avenue SW., Washington, DC 20585; Telephone: (202) 586-0669; Email: kavita.vaidyanathan@hq.doe.gov.

SUPPLEMENTARY INFORMATION: The U.S. Department of Energy (DOE) participates in the public process administered by the International Code Council (ICC) which produces the International Energy Conservation Code (IECC). As a participant in this process, the Department considers and evaluates proposals it is considering submitting as proposed changes to the IECC. DOE published previous notices in the Federal Register, outlining the process by which the Department will participate in the development of the 2018 IECC (April 14, 2015, 80 FR 19972), and announcing previous events where DOE presented its initial concepts under consideration (June 1, 2015, 80 FR 31024). DOE has published draft versions of its proposals at the DOE Building Energy Codes Program Web site and has scheduled a stakeholder meeting to further communicate this information.

Availability of DOE Proposals for the 2018 IECC

The Department's draft proposals for the 2018 IECC are now available on the DOE Building Energy Codes Program Web site. The Department will continue to publish information as it becomes available, including updated versions of its proposals and supporting information. As information will be updated continually, interested parties are urged to monitor the Web site and associated stakeholder mailing lists:

• DOE Proposal Web page: www.energycodes.gov/development/2018IECC

• Stakeholder Updates: http://www.energycodes.gov/news

Submitting Comments on DOE Proposals for the IECC

Interested parties are invited to submit comments on DOE proposals by email or public docket, as outlined in the ADDRESSES section of this notice. The Department began accepting comments upon publication of the original notice in the Federal Register, and will continue to accept comments through October 19, 2015. Further instructions for submitting comments on DOE proposals, including identifiers (e.g., DOE proposal numbers) and associated deadlines, are provided on the above DOE Proposal Web page. All DOE proposals and supporting information will be made available to the public prior to submission to the ICC.

Upcoming Events

The Department will convene a meeting during which stakeholders can present their proposals for the 2018 IECC. As part of this meeting, DOE will also present its own proposals. The goal of the meeting will be to encourage communication amongst stakeholders. This event is scheduled as follows:

Stakeholder Meeting: Public meeting for interested parties to present their proposals for the 2018 IECC:

Dates: October 13th & 14th, 2015

Location: Crowne Plaza Denver Downtown, 1450 Glenarm Place, Denver, CO 80202

Sessions:

• Residential: Tuesday, October 13th from 8:30 a.m.-2:45 p.m. (MDT)

• Multifamily: Tuesday, October 13th from 3:00-5:00 p.m. (MDT)

• Commercial: Wednesday, October 14th from 8:00 a.m.-2:00 p.m. (MDT)

Registration: https://www.energycodes.gov/survey/index.php?sid=83466

Advanced registration is required—please register early so that time may be allotted for stakeholder presentations.

More information on the Department's support for building energy codes, including participation in the development of model codes, is available on the DOE Building Energy Codes Program Web site, www.energycodes.gov.

Issued in Washington, DC, on September 21, 2015.
David Cohan,
Manager, Building Energy Codes Program, Building Technologies Office, Energy Efficiency & Renewable Energy.

[FR Doc. 2015-24941 Filed 9-30-15; 8:45 am]

BILLING CODE 6450-01-P